DEPARTMENT OF TRANSPORTATION

Federal Railroad Administration

[Docket No. FRA-2025-0852, Notice No. 1]

Review of Quiet Zone in Miami, Florida

AGENCY: Federal Railroad Administration (FRA), Department of Transportation (DOT).

ACTION: Notice of quiet zone review.

SUMMARY: FRA is providing notice of its intent to review a quiet zone (THR-000000111223) located in Miami, Florida. Based on a high rate of reported accidents/incidents between January 2020 and January 2025, FRA has made a preliminary determination that safety systems and measures implemented within the quiet zone do not fully compensate for the absence of routine sounding of the locomotive horn due to a substantial increase in risk with respect to loss of life or serious personal injury within the quiet zone. Further, FRA discovered that the documentation submitted and relied upon by the City of Miami (the Public Authority) to establish the quiet zone may contain substantial errors that have an adverse impact on public safety. Therefore, FRA intends to review existing conditions within the quiet zone to determine whether it should be terminated or whether additional safety measures may be necessary to ensure safety.

DATES: Written comments must be received on or before December 24, 2025. FRA will consider comments filed after this date to the extent practicable.

ADDRESSES:

Comments: Comments related to this notice may be submitted by going to https://www.regulations.gov and following the online instructions for submitting comments.

Instructions: All submissions must include the agency name and docket number (FRA-2025-0852). Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL-14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: James Payne, Staff Director, Highway-Rail Crossing and Trespasser Programs Division, at telephone: (202) 441-2787 or email: james.payne@dot.gov; or Kathryn Gresham, Attorney-Adviser, Office of the Chief Counsel, at telephone: (202) 577-7142 or email: kathryn.gresham@dot.gov.

SUPPLEMENTARY INFORMATION:

Background

In a Notice of Quiet Zone Establishment (NOE) letter, dated August 27, 2012, the Public Authority established a quiet zone by designation under 49 CFR 222.39(a)(3) with an effective date of September 30, 2012. The quiet zone, which extends from NE 71st Street (U.S. DOT Crossing Inventory No. 272622C) to the Bayside pedestrian crossing (U.S. DOT Crossing Inventory No. 273139L), includes the following highway-rail and pedestrian grade crossings:

U.S. DOT crossing inventory No. | Street name | Crossing type | Crossing purpose | Railroad milepost (MP)
273139L | Bayside Pedestrian | Public | Pathway, Pedestrian | DL 1.26
272960A | Port Boulevard | Public | Highway | DL 1.19
273133V ¹ | Pedestrian Arena | Public | Pathway, Pedestrian | DL 1.15
272654H | Biscayne Boulevard | Public | Highway | DL 1.10
272653B | NE 2nd Avenue | Public | Highway | DL 1.04
272652U | NE 1st Avenue | Public | Highway | DL 0.98
272651M | Miami Avenue | Public | Highway | DL 0.82
272648E | NW 1st Avenue | Public | Highway | DL 0.71
272647X | NW 8th Street | Public | Highway | DL 0.65
272646R | NW 10th Street | Public | Highway | DL 0.52
272644C | NW 11th Street | Public | Highway | DL 0.45
272640A | NW 14th Street | Public | Highway | PL 3.75
272637S | N Miami Avenue | Public | Highway | PL 3.32
272636K | NE 20th Street | Public | Highway | PL 3.23
272635D | NE 27th Street | Public | Highway | PL 2.74
272634W | NE 29th Street | Public | Highway | PL 2.64
272633P | NE 36th Street | Public | Highway | PL 2.18
272631B | NE 39th Street | Public | Highway | PL 2.02
272627L | NE 54th Street | Public | Highway | PL 1.13
272625X | NE 59th Street | Public | Highway | PL 0.91
272624R | NE 61st Street | Public | Highway | PL 0.65
273010J | NE 62nd Street | Public | Highway | PL 0.60
272622C | NE 71st Street | Public | Highway | PL 0.12

According to the NOE, this crossing corridor qualified for quiet zone status on the basis of having a Quiet Zone Risk Index (QZRI) that was below the Risk Index With Horns (RIWH).² Therefore, the NOE indicated that the Public Authority had taken sufficient measures to compensate for the excess risk that results from restricting routine train horn sounding at the grade crossings identified in the notice.

¹ U.S. DOT Crossing Inventory No. 273133V was not included in the NOE dated August 27, 2012 from the Public Authority but falls within the boundaries of the quiet zone.

² See 49 CFR 222.39(a)(3).

Substantial Increase in Risk

Between January 2020 and January 2025, there have been 23 accident/incidents within this quiet zone.³ As reflected in the table below, 11 accident/incidents have resulted in either injury or fatality, with 9 persons injured and 2 fatalities.⁴ Therefore, in accordance with 49 CFR 222.51(c), FRA has made a preliminary determination that there is significant risk with respect to loss of life or serious personal injury within this quiet zone necessitating FRA review.

³ Since January 2025, additional incidents continue to be reported within the quiet zone.

⁴ The table only lists incidents that resulted in an injury or a fatality. There were 17 incidents at grade crossings and 6 incidents involving trespassers not at grade crossings. Five grade crossing incidents resulted in injury and four trespasser incidents resulted in injury. In addition, two separate trespasser incidents resulted in fatalities.

Date | Injury/fatality | GX ID | RR
20-Mar-20 | 1—Injury | Trespass | FEC ⁵
13-Jan-22 | 1—Injury | 272636K | BLF ⁶
24-Sep-22 | 1—Injury | 272636K | BLF
27-Dec-22 | 1—Injury | Trespass | BLF
20-Oct-23 | 1—Injury | Trespass | BLF
02-Jan-24 | 1—Injury | 272633P | FEC
16-Jan-24 | 1—Injury | 272637S | SFRV ⁷
25-Oct-24 | 1—Fatality | Trespass | BLF
19-Nov-24 | 1—Fatality | Trespass | BLF
05-Dec-24 | 1—Injury | Trespass | SFRV
14-Jan-25 | 1—Injury | 272636K | SFRV

Inadequate Safety Measures

In 2012, initially to demonstrate to FRA that the QZRI was lower than the RIWH, the Public Authority relied upon pre-existing Supplemental Safety Measures (SSMs) ⁸ to reduce existing risk levels within the quiet zone. However, railroad operating circumstances have significantly changed since 2012. Most notably, beginning in May 2018, Brightline (BLF) now operates passenger trains to and from a newly built station, MiamiCentral. In early 2024, the South Florida Regional Transportation Authority (SFRV or Tri-Rail) began operating passenger trains to MiamiCentral as well. This has resulted in an increase in train traffic from approximately 4 trains per day to over 50 trains per day. The accidents/incidents described above, along with the increase in train traffic, has caused the QZRI for this quiet zone to rise to a level above the RIWH.

⁵ Florida East Coast Railway (FEC).

⁶ Brightline Florida (BLF).

⁷ South Florida Regional Transportation Authority (SFRV or Tri-Rail).

⁸ A Supplementary Safety Measure (SSM) is a safety system or procedure established in accordance with 49 CFR part 222, which is provided by the appropriate traffic control authority or law enforcement authority responsible for safety at the highway-rail grade crossing, that is determined by the FRA Associate Administrator for Railroad Safety to be an effective substitute for the locomotive horn in the prevention of highway-rail casualties. See 49 CFR 222.9.

In addition, the maximum timetable speed ⁹ for all trains, including passenger, increased from 20 miles per hour (mph) to 40 mph for several miles of track, and a second main track was constructed. The crossings affected by the speed increase were on the Port Lead from MP PL 0.00 to PL 3.75. The Public Authority has not implemented any SSMs or Alternative Safety Measures (ASMs) ¹⁰ since the establishment of the quiet zone to compensate for the increased train traffic, new railroad infrastructure, and higher train speeds. All twelve quiet zone crossings on the Port Lead were affected by this maximum timetable speed increase.

⁹ The maximum timetable speed references the highest maximum speed any train may travel through the crossing and is determined by the railroad in accordance with the relevant operating conditions and track class. This speed is denoted on the U.S. DOT Crossing Inventory Form in Part II, Box 3. The maximum timetable speed is factored into determining the RIWH and QZRI by the Quiet Zone Calculator.

¹⁰ An Alternative Safety Measure (ASM) is a safety system or procedure, other than an SSM, established in accordance with 49 CFR part 222, which is provided by the appropriate traffic control authority or law enforcement authority and which, after individual review and analysis by the FRA Associate Administrator for Railroad Safety, is determined to be an effective substitute for the locomotive horn in the prevention of highway-rail casualties at specific highway-rail grade crossings. See 49 CFR 222.9.

Improper Documentation

FRA noted the following inaccuracies when comparing the documentation relied upon to establish the quiet zone with current conditions:

• The required list of crossings in the NOE does not include the pedestrian grade crossing at MP DL 1.15 (U.S. DOT Crossing Inventory No. 273133V).

• The Quiet Zone Calculator data in the NOE does not include the Port Boulevard crossing (U.S. DOT Crossing Inventory No. 272960A), which artificially reduced the QZRI.

• A diagnostic team review of the pedestrian grade crossings in the quiet zone was required by 49 CFR 222.27. No record or comments from a diagnostic team review of any pedestrian grade crossing were included in the NOE.

During FRA's review of the documentation submitted to establish the quiet zone, FRA noted additional discrepancies, including outdated annual average daily traffic counts and incomplete Quiet Zone Calculator documentation.¹¹

¹¹ The U.S. DOT Crossing Inventory forms contained in the NOE indicated that an Annual Average Daily Traffic (AADT) analysis had not been performed since 1988 on any highway-rail grade crossings in the quiet zone.

Non-Compliance With the Manual on Uniform Traffic Control Devices (MUTCD)

FRA conducted a field inspection of each quiet zone crossing in October 2024 and provided a summary of its findings to the Public Authority in January 2025. The inspection uncovered numerous exceptions to the standards and guidance of the MUTCD.¹² Most notable was the absence or improper use of “No Train Horn” signs or plaques at several grade crossings. FRA conducted a follow-up inspection in April 2025 and observed that, except for the installation of several “No Train Horn” signs, most of the exceptions have not been corrected. The Federal Highway Administration (FHWA) has reviewed the documented MUTCD non-compliance and concurs with FRA's findings.

¹² FHWA publishes the MUTCD, which contains national design, application, and placement standards, guidance, options, and support provisions for traffic control devices.

Scope of Review

From the inception of FRA's rulemaking on the use of locomotive horns at public highway-rail grade crossings (indeed, beginning with FRA's issuance of Emergency Order No. 15 ¹³ in 1991), FRA has adopted a corridor-wide approach to evaluating and mitigating risk within quiet zones, instead of requiring the implementation of risk mitigation measures at each public highway-rail grade crossing located within a quiet zone. A corridor-wide approach permits the most efficient deployment of risk reduction measures and encourages public authorities to focus their resources on addressing the most hazardous public highway-rail grade crossings.

¹³ 56 FR 36190 (July 31, 1991).

This quiet zone is located on the BLF and SFRV passenger rail corridor. When first established in 2012, the Dodge Island Lead (DL) consisted of one continuous track into the Port of Miami. Since then, this rail line has been split into two different sections: the Port Lead (PL) and the DL.¹⁴ This quiet zone contains PL and DL crossings. Accordingly, the scope of FRA's review may include an analysis of the current configuration of the quiet zone.

¹⁴ The PL connects the FEC mainline southbound to MiamiCentral (PL 0.00 to PL 4.51). The DL splits off at PL 3.53 and then runs parallel until it crosses under the elevated PL at the NW 8th Street crossing (U.S. DOT Crossing Inventory No. 272647X) and turns east to the Port of Miami. The DL terminates at the Port of Miami.

Interested parties are invited to submit written comments to the docket. FRA is interested in obtaining information from the public about any unsafe actions that have been observed at any of the above-listed grade crossings. This could include information about motorists or pedestrians who have been observed engaging in unsafe actions. FRA is also interested in obtaining information from the Public Authority about the effectiveness of existing quiet zone crossing safety improvements, as well any additional quiet zone safety improvements that may be under consideration and the anticipated timeline for implementing any such improvements.

After the comment period closes, the Associate Administrator may require that additional safety measures be taken or that the quiet zone be terminated. The Associate Administrator will provide a copy of his decision to the Public Authority as well as the railroads that operate through the quiet zone and the State agencies responsible for grade crossing, highway, and road safety.

Issued in Washington, DC.
John Karl Alexy,
Associate Administrator for Railroad Safety, Chief Safety Officer.

[FR Doc. 2025-20738 Filed 11-21-25; 8:45 am]

BILLING CODE 4910-06-P